DEPARTMENT OF TRANSPORTATION

Federal Highway Administration

Tier 1 Environmental Impact Statement (EIS) for the Sonoran Corridor Between Interstate 10 (I-10) and Interstate 19 (I-19) South of Tucson International Airport in Pima County, Arizona

AGENCY: Federal Highway Administration (FHWA), Arizona Department of Transportation (ADOT), DOT.

ACTION: Notice of intent to prepare a Tier 1 Environmental Impact Statement (EIS).

SUMMARY: The FHWA, as the Federal Lead Agency, and the ADOT, as the Local Project Sponsor, are issuing this notice to advise the public of our intention to prepare a Tier 1 EIS for the Sonoran Corridor between I-19 and I-10 south of the Tucson International Airport in Pima County, Arizona. The Tier 1 EIS will assess the potential social, economic, and natural environmental impacts of a transportation facility in the designated Sonoran Corridor across a reasonable range of corridor alternatives, including a “No Build” alternative. The Tier 1 EIS will be prepared in accordance with regulations implementing the National Environmental Policy Act (NEPA), and provisions of Fixing America's Surface Transportation Act (FAST Act).

FOR FURTHER INFORMATION CONTACT: For FHWA, contact Mr. Ammon Heier, Area Engineer, Federal Highway Administration, 4000 North Central Avenue, Suite 1500, Phoenix, AZ 85012, telephone at 602-382-8983, or via email at Ammon.Heier@dot.gov. Regular office hours are from 7:30 a.m. to 4:30 p.m., Monday through Friday, except Federal holidays. For ADOT, contact Mr. Carlos Lopez, Sonoran Corridor Project Manager, Arizona Department of Transportation, 205 South 17th Avenue, Mail Drop 605E, Phoenix, AZ 85007, telephone at 602-712-4786, or via email at CLopez@azdot.gov. Regular office hours are from 8:00 a.m. to 5:00 p.m., Monday through Friday, except Federal holidays. Project information can be obtained from the project Web site at: https://www.azdot.gov/SonoranCorridor.

SUPPLEMENTARY INFORMATION: The purpose of this notice is to: (1) Alert interested parties to FHWA's plan to prepare the Tier 1 EIS; (2) provide information on the nature of the proposed action; (3) solicit public and agency input regarding the scope of the Tier 1 EIS, including the purpose and need, alternatives to be considered, and impacts to be evaluated; and (4) announce that public and agency scoping meetings will be conducted. The FHWA intends to issue a single Final Tier 1 EIS and Record of Decision (ROD) document pursuant to the FAST Act Section 1311 requirements, unless FHWA determines statutory criteria or practicability considerations preclude issuance of a combined document.

The Tier 1 EIS will ensure, to the fullest extent possible, all environmental investigations, reviews, and consultations are coordinated as a single process, and compliance with all applicable environmental requirements be reflected in the environmental document. The Sonoran Corridor is a critical transportation facility that could help diversify, support, and connect the economy of Southern Arizona, and the entire State of Arizona. The intent of the Sonoran Corridor is to help alleviate traffic and improve the movement of people, goods, and services by reducing travel distances, and eliminate the need for vehicles to travel through the existing I-10 and I-19 traffic interchange near downtown Tucson. On December 4, 2015, the President signed into law the FAST Act, which is a 5-year legislation that provides long term funding certainty for planning efforts and investments that will help improve the Nation's surface transportation infrastructure. The FAST Act formally designates the Sonoran Corridor as a high-priority corridor, thus reinforcing the need to conduct a study for a future transportation facility between I-10 and I-19 south of Tucson International Airport.

The FHWA and ADOT will undertake a scoping process for the Sonoran Corridor that will allow the public and interested agencies to comment on the scope of the environmental review process. The FHWA and ADOT will invite all interested individuals, organizations, public agencies, and Native American Tribes to comment on the scope of the Tier 1, including the purpose and need, alternatives to be studied, impacts to be evaluated, and evaluation methods to be used. The formal scoping period is anticipated to extend from May 12, 2017 to July 15, 2017. Two public scoping meetings and one agency scoping meeting for Federal, State, regional and local resource and regulatory agencies will be held during the formal scoping period. In addition, cooperating and participating agency invitation letters will be sent to agencies that have jurisdiction or may have an interest in the Sonoran Corridor.

The buildings used for the meetings are accessible to persons with disabilities. Any person who requires special assistance, such as a language interpreter, should contact the Sonoran Corridor Tier 1 EIS Study Team at telephone 855-712-8530 or via email at Sonorancorridor@azdot.gov at least 48 hours before the meeting.

Written comments on the scope of the Tier 1 EIS should be mailed to: Sonoran Corridor Tier 1 EIS Study Team, c/o ADOT Communications, 1655 West Jackson Street, Mail Drop 126F, Phoenix, AZ 85007; sent via email to Sonorancorridor@azdot.gov; or submitted on the study's Web site at https://www.azdot.gov/SonoranCorridor.

The Paperwork Reduction Act seeks, in part, to minimize the cost to the taxpayer of the creation, collection, maintenance, use dissemination, and disposition of information. Accordingly, unless a specific request for a complete hardcopy of the NEPA document is received before it is printed, the FHWA and ADOT will distribute only electronic versions of the NEPA document. A complete copy of the environmental document will be available for review at locations throughout the study area. An electronic copy of the complete environmental document will be available on the study's Web site at https://www.azdot.gov/SonoranCorridor.

Authority: 23 U.S.C. 315; 23 CFR 771.123.

Issued on: May 4, 2017.
Karla S. Petty,
Arizona Division Administrator, Federal Highway Administration.

[FR Doc. 2017-09452 Filed 5-11-17; 8:45 am]

BILLING CODE P